DEPARTMENT OF AGRICULTURE

Submission for OMB Review; Comment Request

January 5, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Certificate for Poultry and Hatching Eggs for Export.

OMB Control Number: 0579-0048.

Summary of Collection: The Animal Health Protection Act (AHPA) of 2002 is the primary Federal law governing the protection of animal health. The law gives the Secretary of Agriculture broad authority to detect, control, or eradicate pest or diseases of livestock or poultry. The export of agricultural commodities, including poultry and hatching eggs is a major business in the United States and contributes to a favorable balance of trade. As part of its mission to facilitate the export of U.S. poultry and poultry products, the U.S. Department of Agriculture (USDA), Animal and Plant Health Inspection Service (APHIS), Veterinary Services, maintains information regarding the import health requirements of other countries for poultry and hatching eggs exported from the U.S. Most countries require a certification that our poultry and hatching eggs are disease free. VS Form 17-6, Certificate for Poultry & Hatching Eggs for Export, is used to meet these requirements.

Need and Use of the Information: APHIS will use VS Form 17-6, to collect information on the quantity and type of poultry and hatching egg designated for export. The information is necessary to satisfy the import requirements of the receiving countries and to prevent unhealthy poultry or disease carrying hatching eggs from being exported from the United States, thereby protecting and encouraging trade with the United States and preventing the international dissemination of poultry diseases. If the certification was not provided, other countries would not accept poultry or hatching eggs from the United States.

Description of Respondents: Business or other for-profit.

Number of Respondents: 300.

Frequency of Responses: Reporting: On occasion.

Total Burden Hours: 5,100.

Animal and Plant Health Inspection Service

Title: Request for Credit Account Approval for Reimbursable Services.

OMB Control Number: 0579-0055.

Summary of Collection: The Debt Collection Improvement Act of 1996 (Pub. L. 104-134 Section 31001(x)) of 31 U.S.C. 3332, as amended, requires that agencies collect tax identification numbers from all persons doing business with the Government for purposes of collecting delinquent debts. The services of an inspector to clear imported and exported commodities requiring release by Agency personnel are covered by user fees during regular working hours. If an importer/exporter wishes to have a shipment of cargo or animals cleared at other hours, such services will usually be provided on a reimbursable overtime basis, unless already covered by a user fee. The Animal and Plant Health Inspection Service (APHIS) will collect information using APHIS Form 192, Application for Credit Account and Request for Service.

Need and Use of the Information: APHIS will collect information to conduct a credit check on prospective applicants to ensure credit worthiness prior to extending credit services. Without this information, customers including small businesses would have to pay each time a service was provided.

Description of Respondents: Business or other for-profit.

Number of Respondents: 132.

Frequency of Responses: Reporting: On occasion.

Total Burden Hours: 33.

Animal and Plant Health Inspection Service

Title: Importation of Horses, Ruminants, Swine, and Dogs; Inspection and Treatment for Screwworm.

OMB Control Number: 0579-0165.

Summary of Collection: The Animal Health Protection Act (AHPA) of 2002 is the primary Federal law governing the protection of animal health. The law gives the Secretary of Agriculture broad authority to detect, control, or eradicate pest or diseases of livestock or poultry. The regulations under which the Animal and Plant Health Inspection Service (APHIS) conduct disease prevention activities are contained in Title 9, Chapter 1, Subchapter D, Parts 91 through 99. These regulations govern the importation of animals, birds and poultry, certain animal and poultry products, and animal germplasm. APHIS requires horses, ruminants, swine, and dogs imported into the United States from regions of the world where screwworm is known to exist to be inspected and, if necessary, treated for infestation with screwworm. Screwworm is a pest native to tropical areas of South America, the Indian subcontinent, Southeast Asia, tropical and sub-Saharan Africa, and the Arabian Peninsula that causes extensive damage to livestock and other warm-blooded animals.

Need and Use of the Information: APHIS requires the following documents to import houses, ruminants, swine, and dogs from regions where screwworm is known to exist: (1) An application for import or in-transit permit (VS 17-129); and (2) the health certificate. Horses, ruminants, swine, and dogs entering the United States from regions where screwworm is known to exist must be accompanied by a certificate, signed by a full-time salaried veterinary official of the exporting country, stating that these animals have been thoroughly examined, that they have been treated with ivermectin, that any visible wounds have been treated with coumaphos, and the animals appear to be free of screwworm.

Description of Respondents: Business or other for-profit; Federal Government.

Number of Respondents: 83.

Frequency of Responses: Reporting: On occasion.

Total Burden Hours: 85.

Animal and Plant Health Inspection Service

Title: Importation of Live Swine, Pork, and Pork Products from Certain Regions Free of CSF in Chile and Mexico.

OMB Control Number: 0579-0230.

Summary of Collection: The Animal Health Protection Act (AHPA) of 2002 is the primary Federal law governing the protection of animal health. The law gives the Secretary of Agriculture broad authority to detect, control, or eradicate pest or diseases of livestock or poultry. The regulations under which the Animal and Plant Health Inspection Service (APHIS) conduct disease prevention activities are contained in Title 9, chapter 1, subchapter D, part 94, place certain restrictions on the importation of swine, pork, and pork products into the United States.

Need and Use of the Information: APHIS will collect information to ensure regulatory compliance for mitigation of classical swine fever (CFS) from imports of swine, pork, and pork products into the United States. One requirement is completion of a certificate issued by a salaried veterinary officer of the Governments of Mexico and/or Chile that must accompany swine, pork, and pork products from their respective regions. If the information was not collected APHIS would be unable to establish an effective defense against the entry and spread of CSF from Mexican and Chilean swine, pork, and pork product imports. This would cause serious health consequences from U.S. swine and economic consequences for the U.S. pork industry.

Description of Respondents: Federal Government.

Number of Respondents: 11.

Frequency of Responses: Reporting: On occasion.

Total Burden Hours: 86.

Animal and Plant Health Inspection Service

Title: Customer Service Survey Project.

OMB Control Number: 0579-0334.

Summary of Collection: Title 7, U.S.C. 8301, Animal Health Protection Act of 2002, authorizes the Secretary of the U.S. Department of Agriculture to prevent, control and eliminate domestic diseases such as tuberculosis, and brucellosis, as well as to take action to prevent and to manage exotic diseases such as hog cholera, foot-and-mouth disease, and other foreign animal diseases. This collection of information is to solicit the beliefs and opinions of persons who use the services and products offered by Veterinary Services (VS). Information will be collected via customer survey at the Area Office or Animal Import Center either by postal mail or by electronic e-mail system. The survey is required to solicit information from the general public who utilize the business services and animal programs administered by the USDA, APHIS, and VS.

Need and Use of the Information: The data collected from the survey will provide the local Area Office Manager with a general view of the public's perception of customer service and indicate problems which can be addressed locally. The survey will also provide feedback from the public on recommendations to improve upon customer service and provide a vehicle in which questions can be asked about VS to educate the public.

Description of Respondents: Business or other for-profit; Farms; Individuals or households; Not-for-profit institutions; State, Local or Tribal Government.

Number of Respondents: 5,000.

Frequency of Responses: Reporting: On occasion.

Total Burden Hours: 229.

Ruth Brown,
Departmental Information Collection Clearance Officer.

[FR Doc. 2011-224 Filed 1-7-11; 8:45 am]

BILLING CODE 3410-34-P